DEPARTMENT OF LABOR

Employment and Training Administration

Agency Information Collection Activities; Comment Request; Unemployment Insurance (UI) State Quality Service Plan (SQSP) Planning and Reporting Guidelines

ACTION: Notice.

SUMMARY: The Department of Labor (DOL), Employment and Training Administration (ETA) is soliciting comments concerning a proposed extension for the authority to conduct the information collection request (ICR) titled, “Unemployment Insurance (UI) State Quality Service Plan (SQSP) Planning and Reporting Guidelines.” This comment request is part of continuing Departmental efforts to reduce paperwork and respondent burden in accordance with the Paperwork Reduction Act of 1995 (PRA).

DATES: Consideration will be given to all written comments received by August 7, 2017.

ADDRESSES: A copy of this ICR with applicable supporting documentation; including a description of the likely respondents, proposed frequency of response, and estimated total burden may be obtained free by contacting Delores Ferrell by telephone at 202-693-3183, TTY 1-877-889-5627 (these are not toll-free numbers) or by email at ferrell.delores@dol.gov.

Submit written comments about, or requests for a copy of, this ICR by mail or courier to the U.S. Department of Labor, Employment and Training Administration, Office of Unemployment Insurance, 200 Constitution Avenue NW., Room S-4519, Washington, DC 20210; by email: ferrell.delores@dol.gov; or by Fax 202-693-3975.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The SQSP represents an approach to the unemployment insurance performance management and planning process that allows for an exchange of information between the Federal and state partners to enhance the ability of the program to reflect the joint commitment to performance excellence and client-centered services. As part of UI Performs, a comprehensive performance management system implemented in 1995 for the UI program, the SQSP is the principal vehicle that state UI agencies use to plan, record, and manage program improvement efforts as they strive for excellence in service. The SQSP, which serves as the State Plan for the UI program, also serves as the grant document through which states receive Federal UI administrative funding. The statutory basis for the SQSP is Title III, Section 302 of the Social Security Act, which authorizes the Secretary of Labor to provide funds to administer the UI programs, and Sections 303 (a) (8) and (9) which govern the expenditures of those funds. The SQSP represents an approach to tie program performance with the budget and planning process.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0132.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension Without Change.

Title of Collection: Unemployment Insurance (UI) State Quality Service Plan (SQSP) Planning and Reporting Guidelines.

Form: ET Handbook No. 336, 18th Edition.

OMB Control Number: 1205-0132.

Affected Public: State Workforce Agencies.

Estimated Number of Respondents: 53.

Frequency: Biannual, Annual, and Quarterly.

Total Estimated Annual Responses: 747.

Estimated Average Time per Response: 4.32 hours.

Estimated Total Annual Burden Hours: 3,226 hours.

Total Estimated Annual Other Cost Burden: $0.

Byron Zuidema,
Deputy Assistant Secretary for Employment and Training, Labor.

[FR Doc. 2017-11843 Filed 6-7-17; 8:45 am]

BILLING CODE 4510-FW-P